GENERAL SERVICES ADMINISTRATION

[Notice-WWICC-2017-01; Docket No. 2017-0003; Sequence 1]

World War One Centennial Commission; Notification of Change to Upcoming Public Advisory Meeting

AGENCY: World War One Centennial Commission.

ACTION: Meeting notice.

SUMMARY: Notice of this meeting is being provided according to the requirements of the Federal Advisory Committee Act, 5 U.S.C. App. 10(a)(2). This notice provides the schedule and agenda for the March 22, 2017 meeting of the World War One Centennial Commission (the Commission). The meeting is open to the public via telephone, first come, first served.

DATES: Effective: February 27, 2017.

MEETING DATE: The meeting will be held on Wednesday, March 22, 2017 starting at 10:00 a.m., Eastern Daylight Saving Time (EDST), and ending no later than 2:00 p.m., EDST. The meeting will be held via teleconference. The meeting will be open for the public to dial in on a first come first served basis by dialing 712-432-1001 and entering Access Code: 474845614#. Note this is not a toll-free number.

Written Comments may be submitted to the Commission and will be made part of the permanent record of the Commission. Comments must be received by 5:00 p.m., Eastern Daylight Saving Time (EDST), on March 17, 2017, and may be provided by email to daniel.dayton@worldwar1centennial.gov. Contact Daniel S. Dayton at daniel.dayton@worldwar1centennial.org to register to comment during the meeting's 30-minute public comment period.

Registered speakers/organizations will be allowed five minutes and will need to provide written copies of their presentations. Requests to comment, together with presentations for the meeting, must be received by 5:00 p.m., EDST, on Friday, March 17, 2017. Please contact Mr. Dayton at the email address above to obtain meeting materials.

FOR FURTHER INFORMATION CONTACT: Daniel S. Dayton, Designated Federal Officer, World War 1 Centennial Commission, 701 Pennsylvania Avenue NW., 123, Washington, DC 20004-2608, at 202-380-0725 (note: this is not a toll-free number).

SUPPLEMENTARY INFORMATION:

Background

The World War One Centennial Commission was established by Public Law 112-272 (as amended), as a commission to ensure a suitable observance of the centennial of World War I, to provide for the designation of memorials to the service of members of the United States Armed Forces in World War I, and for other purposes. Under this authority, the Committee will plan, develop, and execute programs, projects, and activities to commemorate the centennial of World War I, encourage private organizations and State and local governments to organize and participate in activities commemorating the centennial of World War I, facilitate and coordinate activities throughout the United States relating to the centennial of World War I, serve as a clearinghouse for the collection and dissemination of information about events and plans for the centennial of World War I, and develop recommendations for Congress and the President for commemorating the centennial of World War I. The Commission does not have an appropriation and operates solely on donated funds.

Agenda: Wednesday, March 22, 2017.

Old Business

• Acceptance of minutes of last meeting.

• Public Comment Period.

New Business

• Executive Director's Report—Mr. Dayton.

• Financial Committee Report—Vice Chair Fountain.

• Fundraising Report—Ambassador Sedgwick.

• Memorial Report—Vice Chair Fountain.

• Education Report—Dr. O'Connell.

• Endorsements—(RFS)—Dr. Seefried.

• International Report—Dr. Seefried.

• Report on April 6 Event—Dr. Seefried.

• Other Business.

• Chairman's Report.

• Set Next Meeting.

• Motion to Adjourn.

Dated: February 13, 2017.
Daniel S. Dayton,
Designated Federal Official, World War I Centennial Commission.

[FR Doc. 2017-03721 Filed 2-24-17; 8:45 am]

BILLING CODE 6820-95-P